DEPARTMENT OF HEALTH AND HUMAN SERVICES

Notification of Single Source Cooperative Agreement Award for the Pasteur Foundation

AGENCY: Department of Health and Human Services (HHS), Office of the Assistant Secretary for Preparedness and Response (ASPR), Office of Policy and Planning (OPP).

ACTION: Notification of Single Source Cooperative Agreement Award for the Pasteur Foundation for Building and Strengthening Core Capacities for Influenza Preparedness and Response in Support of International Health Regulations (2005) Implementation in Selected Countries in Sub-Saharan Africa and Southeast Asia. CFDA#: 93.019

STATUTORY AUTHORITY: Sections 301, 307, 1701 and 2811 of the Public Health Service Act, 42 U.S.C. 241, 242l, 300u, 300hh-10.

Amount of Single Source award: $1,800,000.

Project Period: September 30, 2011 to September 29, 2014.

SUMMARY: In FY2011, HHS/ASPR/OPP plans to provide a Single Source Cooperative Agreement Award to the Pasteur Foundation to build and strengthen core capacities for influenza preparedness and response in support of International Health Regulations (2005) implementation in Sub-Saharan Africa and Southeast Asia.

ASPR, in close coordination with the HHS Centers for Disease Control and Prevention (CDC), will collaborate with the Pasteur Institute and Pasteur Institute affiliates in Cameroon, Central African Republic, and Senegal in Africa, and Cambodia in Asia to develop and implement activities for preparedness and response for pandemic influenza with applicability to other emerging respiratory infections and public health threats in general. The project will focus on building upon existing routine health systems to further develop IHR (2005) core capacities including communication (IHR National Focal Point communication), workforce development, and surveillance and laboratory diagnostics. This work will be performed in the context of Article 44 of the IHR (2005), which directs State Parties to collaborate with each other to detect, assess, and respond to events, and to develop, strengthen, and maintain core public health capacities for surveillance and response.

Single Source Justification

In the recent past, ASPR and Pasteur Institute collaborated on developing epidemiological surveillance capacity for influenza-like illness (ILI) in five countries in Africa and three countries in Asia as the basis for developing the capacities to detect influenza viruses with epidemic or pandemic potential. As a result of this project and the collaboration with other international partners, eighty surveillance sites were established among the eight countries, the laboratories in Cameroon and Cambodia became National Reference Laboratories for avian influenza, and all eight laboratories in the host-countries became WHO National Influenza Centers.

In Southeast Asia, the International Network of Pasteur Institutes is strategically positioned to study the natural history of Highly Pathogenic Avian Influenza (HPAI H5N1). Cambodia and its affiliated Pasteur Institute are important partners in the region that can act as a hub for training and sharing of technical expertise as its National Influenza Center can identify and isolate HPAI H5N1 strains and has experience in Influenza-Like Illness (ILI) and Severe Acute Respiratory Infections (SARI) surveillance.

In Sub-Saharan Africa, Cameroon has built a surveillance system and the Centre Pasteur of Cameroun under the Ministry of Health has been designated by WHO as a National Influenza Center. Moreover, the Centre Pasteur du Cameroun is also the National IHR Focal Point, making it a key partner for IHR (2005) implementation. The Pasteur Institute of Bangui in the Central African Republic (CAR) is recognized by WHO as a National Influenza Center. This is the only organization capable of performing influenza diagnostics in the country, which was able to detect the first case of H1N1 in 2010. This recognition will be leveraged to further strengthen and interlink the current surveillance network for highly pathogenic avian influenza H5N1. A solid partnership between Cameroon and CAR is particularly important as this is a region in Sub-Saharan Africa where the virus has been detected. In Senegal, the Pasteur Institute of Dakar has set up the influenza surveillance sentinel system, is reporting to the Ministry of Health, and is hosting the National Influenza Center. Senegal has a leading role in the West African region on influenza, and with its involvement in regional CDC's Field Epidemiology Training Program, could become an important leader with regard to IHR (2005) implementation. In addition, Senegal is the one of the two countries in Africa that currently has the potential to develop influenza vaccine manufacturing technology in the short- to medium-term, if supported by international partners, including ASPR.

In making this award, ASPR will capitalize on the Pasteur Institute International Network and its access to francophone countries in Africa and with a strong French influence in Asia. Based on the lessons learned from previous collaborations, this new investment will allow HHS to contribute to build international capacity in collaboration with a prestigious international partner by sharing experiences, strategies, and best practices, and other technical resources in helping developing countries improve their capabilities for pandemic influenza and implement IHR core capacities.

In summary, the Pasteur Institute's strong collaborative relationships with foreign governments, programmatic support, and familiarity with host-country involvement in influenza preparedness will be critical for the viability of this cooperative agreement. This collaboration will support HHS efforts to continue building capacity abroad with the ultimate intent of detecting, stopping, slowing or otherwise limiting the spread of a pandemic to the United States, ultimately enhancing the health security of the American population.

Additional Information: The agency program contact is Dr. Maria Julia Marinissen, who can be contacted at 202-205-4214 or Maria.Marinissen@hhs.gov.

Dated: August 5, 2011.
Nicole Lurie,
Assistant Secretary for Preparedness and Response.

[FR Doc. 2011-20312 Filed 8-9-11; 8:45 am]

BILLING CODE 4150-37-P